DEPARTMENT OF COMMERCE

International Trade Administration

[A-570-016]

Certain Passenger Vehicle and Light Truck Tires From the People's Republic of China: Final Results of Antidumping Duty Administrative Review and Final Determination of No Shipments; 2019-2020

AGENCY: Enforcement and Compliance, International Trade Administration, Department of Commerce.

SUMMARY: The Department of Commerce (Commerce) determines that producers or exporters of passenger vehicle and light truck tires (passenger tires) from the People's Republic of China (China) subject to this review made sales of subject merchandise at less than normal value during the period of review (POR), August 1, 2019, through July 31, 2020, or did not ship subject merchandise to the United States during the POR.

DATES: Applicable March 11, 2022.

FOR FURTHER INFORMATION CONTACT: Toni Page or Peter Shaw, AD/CVD Operations, Office VII, Enforcement and Compliance, International Trade Administration, U.S. Department of Commerce, 1401 Constitution Avenue NW, Washington, DC 20230; telephone: (202) 482-1938 or (202) 482-0697, respectively.

SUPPLEMENTARY INFORMATION:

Background

On September 7, 2021, we published the Preliminary Results and invited interested parties to comment.¹ The administrative review covers seven companies for which an administrative was initiated and not rescinded.² For details regarding the events that occurred since the Preliminary Results, see the Issues and Decision Memorandum.³ We conducted this administrative review in accordance with section 751 of the Tariff Act of 1930, as amended (the Act).

¹ See Certain Passenger Vehicle and Light Truck Tires from the People's Republic of China: Preliminary Results of Antidumping Duty Administrative Review; and Preliminary Determination of No Shipments; 2019-2020, 86 FR 50029 (September 7, 2021) (Preliminary Results), and accompanying Preliminary Decision Memorandum (PDM).

² On October 6, 2020, we published a notice of initiation listing 28 companies. See Initiation of Antidumping and Countervailing Duty Administrative Reviews, 85 FR 63081 (October 6, 2020). On January 27, 2021, we rescinded the administrative review regarding 21 companies. See Passenger Vehicle and Light Truck Tires from the People's Republic of China: Rescission, in Part, of Antidumping Duty Administrative Review; 2019-2020, 86 FR 7258 (January 27, 2021).

³ See Memorandum, “Issues and Decision Memorandum for the Final Results of the Antidumping Duty Administrative Review of Certain Passenger Vehicle and Light Truck Tires from the People's Republic of China and Final Determination of No Shipments; 2019-2020,” dated concurrently with, and hereby adopted by, this notice (IDM).

Scope of the Order ⁴

⁴ See Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

The products covered by this Order are certain passenger vehicle and light truck tires from China. For a full description of the scope of the Order, see the Issues and Decision Memorandum.

Analysis of Comments Received

We addressed all issues raised in the case and rebuttal briefs filed by interested parties in the Issues and Decision Memorandum. A list of the issues discussed in the Issues and Decision Memorandum is attached to this notice as an appendix. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly https://access.trade.gov/public/FRNoticesListLayout.aspx.

Changes Since the Preliminary Results

Based on our analysis of the comments received from interested parties and for the reasons explained in the Issues and Decision Memorandum, we made changes to the valuation of certain inputs and corrected certain ministerial errors in the calculation of mandatory respondent Sumitomo's ⁵ weighted-average dumping margin. For a discussion of these changes, see the Issues and Decision Memorandum.⁶

⁵ Sumitomo refers to a single entity, which includes Sumitomo Rubber (Hunan) Co., Ltd.; Sumitomo Rubber (Changshu) Co., Ltd.; and Sumitomo Rubber Industries Co., Ltd. (collectively, Sumitomo). See the Issues and Decision Memorandum at the section titled “Affiliation and Single Entity.”

⁶ See IDM at the section titled “Changes Since the Preliminary Results.”

Final Determination of No Shipments

In the Preliminary Results, we found that Qingdao Fullrun Tyre Tech Corp., Ltd. (Qingdao Fullrun Tyre Tech) did not have shipments of subject merchandise during the POR.⁷ No party commented on this preliminary finding. Therefore, for the final results of review, we continue to find that Qingdao Fullrun Tyre Tech did not have any shipments of subject merchandise during the POR.⁸

⁷ See Preliminary Results, 86 FR 50029, and accompanying PDM at the section titled “Preliminary Determination of No Shipments.”

⁸ See IDM at the section titled “Final Determination of No Shipments.”

Separate Rates

In the Preliminary Results, we found that the evidence provided by two respondents, Zhaoqing Junhong Co., Ltd. and Qingdao Nexen Tire Corporation supported finding an absence of both de jure and de facto government control, and, therefore, we preliminarily granted a separate rate to these companies.⁹ No parties commented on this preliminary finding. Therefore, we continue to grant a separate rate to these companies.¹⁰

⁹ See Preliminary Results, 86 FR at 50030; see also Preliminary Results PDM at the section titled “Discussion of the Methodology.”

¹⁰ See IDM at the section titled “Final Determination of No Shipments.”

In the Preliminary Results, we also found that the evidence provided by two respondents, Shandong Qilun Rubber Co., Ltd. (Shandong Qilun) and Qingdao Landwinner Tyre Co., Ltd (Landwinner) supported finding an absence of both de jure and de facto government control, and, therefore, we preliminarily granted a separate rate to these companies.¹¹ Since the issuance of the Preliminary Results, we received comments from the petitioner regarding Shandong Qilun and Landwinner's separate rate eligibility.¹² For the final results of review, we continue to find that Shandong Qilun and Landwinner are eligible to receive a separate rate in this review. For further discussion, see Issues and Decision Memorandum.¹³

¹¹ See Preliminary Results, 86 FR 50029; see also Preliminary Results PDM at the section titled “Discussion of the Methodology.”

¹² See Issues and Decision Memorandum at the section titled “Separate Rates.”

¹³ Id.

Rate for Non-Examined Separate Rate Respondents

The statute and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually examined respondents, excluding rates that are zero, de minimis, or based entirely on facts available. When the rates for individually examined companies are all zero, de minimis, or based entirely on facts available, section 735(c)(5)(B) of the Act provides that Commerce may use “any reasonable method” to establish the all-others rate.

We calculated a 2.06 percent dumping margin for the mandatory respondent, Sumitomo. We assigned the separate rate respondents a dumping margin equal to the dumping margin of Sumitomo, consistent with the guidance in section 735(c)(5)(A) of the Act.

Final Results of Review

We are assigning the following dumping margins to the firms listed below for the period August 1, 2019, through July 1, 2020:

Exporter | Weighted- average dumping margin (percent)
Sumitomo Rubber Industries Ltd.; Sumitomo Rubber (Hunan) Co., Ltd.; and Sumitomo Rubber (Changshu) Co., Ltd | 2.06
Qingdao Landwinner Tyre Co., Ltd | 2.06
Qingdao Nexen Tire Corporation | 2.06
Shandong Qilun Rubber Co., Ltd | 2.06
Zhaoqing Junhong Co., Ltd | 2.06

Disclosure

Pursuant to 19 CFR 351.224(b), within five days of the publication this Federal Register notice, we will disclose to the parties to this proceeding the calculations that we performed for these final results.

Assessment Rates

Pursuant to section 751(a)(2)(C) of the Act, and 19 CFR 351.212(b), Commerce will determine, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Where the respondent's weighted-average dumping margin is zero or de minimis, or where an importer- (or customer-) specific ad valorem or per-unit rate is zero or de minimis, Commerce will instruct CBP to liquidate appropriate entries without regard to antidumping duties.¹⁴ For entries that were not reported in the U.S. sales database submitted by an exporter individually examined during this review, but that entered under the case number of that exporter (i.e., at the individually-examined exporter's cash deposit rate), Commerce will instruct CBP to liquidate such entries at the China-wide rate (i.e., 76.46 percent).¹⁵

¹⁴ See Antidumping Proceedings: Calculation of the Weighted-Average Dumping Margin and Assessment Rate in Certain Antidumping Proceedings: Final Modification, 77 FR 8101, 8103 (February 14, 2012).

¹⁵ See Order, 80 FR at 47904 n.19 and 47906.

For any individually examined respondent whose weighted-average dumping margin is above de minimis (i.e., 0.5 percent), we will calculate importer-specific assessment rates on the basis of the ratio of the total amount of antidumping duties calculated for each importer's examined sales and the total entered value of the sales, in accordance with 19 CFR 351.212(b)(1).

For respondents not individually examined in this administrative review that qualified for a separate rate, the assessment rate will be the dumping margin assigned to the mandatory respondent in the final results of this review.

For the respondents not eligible for a separate rate and that are part of the China-wide entity, we intend to instruct CBP to apply an ad valorem assessment rate of 76.46 percent (i.e., the China-wide entity rate) to all entries of subject merchandise during the POR that were exported by these companies.

Additionally, if Commerce determined that an exporter under review had no shipments of the subject merchandise, any suspended entries that entered under the exporter's case number will be liquidated at the China-wide rate.

Cash Deposit Requirements

The following cash deposit requirements will be effective for shipments of the subject merchandise entered, or withdrawn from warehouse, for consumption on or after the publication date for the final results of review, as provided for by section 751 (a)(2)(C) of the Act: (1) For the exporters listed in the table above, the cash deposit rate will be the rate established in the final results of review that is listed for the exporter in the table; (2) for previously investigated or reviewed China and non-China exporters not listed in the table above that have separate rates, the cash deposit rate will continue to be the existing exporter-specific rate published for the most recent period; (3) for all China exporters of subject merchandise that have not been found to be entitled to a separate rate, the cash deposit rate will be the rate previously established for the China-wide entity, which is 76.46 percent; and (4) for all non-China exporters of subject merchandise which have not received their own rate, the cash deposit rate will be the rate applicable to the China exporter that supplied that non-China exporter. The cash deposit requirements, when imposed, shall remain in effect until further notice.

Notification to Importers Regarding the Reimbursement of Duties

This notice serves as a final reminder to importers of their responsibility under 19 CFR 351.402(f)(2) to file a certificate regarding the reimbursement of antidumping duties prior to liquidation of the relevant entries during this POR. Failure to comply with this requirement could result in Commerce's presumption that reimbursement of antidumping or countervailing duties occurred and the subsequent assessment of double antidumping duties.

Notification Regarding Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing these final results of administrative review and publishing this notice in accordance with sections 751(a)(1) and 777(i)(1) of the Act, and 19 CFR 351.213(h) and 351.221(b)(5).

Dated: March 4, 2022.
Lisa W. Wang,
Assistant Secretary for Enforcement and Compliance.

Appendix

List of Topics Discussed in the Issues and Decision Memorandum

I. Summary

II. Background

III. Scope of the Order

IV. Final Determination of No Shipments

V. Separate Rates

VI. Changes Since the Preliminary Results

VII. Discussion of the Issues

Comment 1: Whether Russia Should be the Primary Surrogate Country

Comment 2: Whether to Correct the Calculation of Surrogate Value of “Carbon Black 7”

Comment 3: Whether to Value Certain Inputs Using Market Economy Purchases

Comment 4: Whether to Grant Adjustments Reported in REBATE6U

Comment 5: Whether to Rely on Quantities Shipped to Tollers Rather Than Quantities Consumed as Facts Available

Comment 6: Whether to Grant a Separate Rate to Qingdao Landwinner Tyre Co., Ltd.

Comment 7: Whether to Grant a Separate Rate to Shandong Qilun Rubber Co., Ltd.

Comment 8: Whether to Apply the Cohen's d Test

VIII. Recommendation

[FR Doc. 2022-05209 Filed 3-10-22; 8:45 am]

BILLING CODE 3510-DS-P